DEPARTMENT OF TRANSPORTATION

Office of the Secretary

Application of Friendship Airways, Inc. d/b/a Yellow Air Taxi for Commuter Authority

AGENCY: Department of Transportation.

ACTION: Notice of Order to Show Cause (Order 2011-10-9), Docket DOT-OST-2005-21533.

SUMMARY: The Department of Transportation is directing all interested persons to show cause why it should revoke the Commuter Air Carrier Authorization issued to Friendship Airways, Inc. d/b/a Yellow Air Taxi and deny its application to resume commuter operations, pursuant to 49 U.S.C. 40109(f) and 14 CFR part 298.

DATES: Persons wishing to file objections should do so no later than November 1, 2011.

ADDRESSES: Objections and answers to objections should be filed in Docket DOT-OST-2005-21533 and addressed to U.S. Department of Transportation, Docket Operations, (M-30, Room W12-140), 1200 New Jersey Avenue, SE., West Building Ground Floor, Washington, DC 20590, and should be served upon the parties listed in Attachment A to the order.

FOR FURTHER INFORMATION CONTACT: Catherine J. O'Toole, Air Carrier Fitness Division (X-56, Room W86-489), U.S. Department of Transportation, 1200 New Jersey Avenue, SE., Washington, DC 20590, (202) 366-9721.

Dated: October 18, 2011.
Susan L. Kurland,
Assistant Secretary for Aviation and International Affairs.

[FR Doc. 2011-27455 Filed 10-21-11; 8:45 am]

BILLING CODE P